DEPARTMENT OF HEALTH AND HUMAN SERVICES

Centers for Disease Control and Prevention

[30DAY-54-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: An Assessment of the Feasibility and Need for Support of Cervical Cancer Screening Services in Publicly Funded Sexually Transmitted Disease (STD) Clinics—New—National Center for Chronic Disease Prevention and Health Promotion (NCCDPHP), Centers for Disease Control Prevention (CDC).

The National Center for Chronic Disease Prevention and Health Promotion, Division of Cancer Prevention and Control (DCPC) in collaboration with the National Center for HIV, STD, and TB Prevention, Division of STD Prevention proposes to evaluate the need for and suitability of delivering cervical cancer screening services to women receiving health care in public STD clinics. STD clinics provide health services to a population of women considered to be at high risk for human papillomavirus (HPV) infection. Certain HPV types cause abnormal Pap smears and are etiologically linked to cervical cancer. Many women who seek medical attention from STD clinics have limited access to other sources of health care. Moreover, there is limited published information about the cervical cancer screening behaviors or magnitude of cervical dysplasia in this at-risk population. CDC is conducting this project in response to a Congressional mandate encouraging the exploration of alternative strategies and methods to increase access to cervical cancer screening services among medically underserved women.

To determine if STD clinics are an appropriate venue to identify women in need of cervical cancer screening services, DCPC will recruit and enroll a projected sample of 22,680 women attendees of eight publicly funded clinics. Four of the participating clinics will offer cervical cancer screening services and four will not provide these services. To estimate the need for cervical cancer screening among STD clinic attendees, women who meet the project enrollment criteria at all participating clinics will be asked to participate in a brief interview regarding their recent cervical cancer screening history and their need for screening.

For women attending publicly funded STD clinics offering cervical cancer screening services, data will be collected on the results of the screening examination, results of the diagnostic assessments of abnormal screening tests, and the costs associated with cervical cancer screening and follow-up. For women attending clinics not offering cervical cancer screening, attendees determined to be in need of screening will be referred to local providers offering these services.

A sub-study, verifying attendees reports of recent cervical screening services will be conducted on a sample of clinic attendees. Official Pap smear reports will be collected for those women who indicate a Pap smear was performed during the preceding 12 months. Clinic staff and health care provider activities will involve interviewing attendees, determining attendees eligibility status, and verifying Pap test results. The total annualized burden for this data collection is 9,969 hours.

Respondents | Activity | Number of respondents | Number of responses per respondent | Average burden per response (in hrs.)
STD clinic clients—one time visit | Screening | 22,680 | 1 | 5/60
| Consent Form | 18,144 | 1 | 5/60
| Survey | 18,144 | 1 | 10/60
| Release Form | 8,709 | 1 | 5/60
Repeat STD clinic clients | Screening | 2,250 | 2 | 5/60
| Consent Form | 2,016 | 2 | 5/60
| Survey—1st visit | 2,016 | 1 | 10/60
| Survey—2nd visit | 2,016 | 1 | 5/60
| Release Form | 968 | 1 | 5/60
Healthcare Providers | Copy/mail reports | 7,742 | 1 | 10/60
Clinic Staff— Baseline Visit | 1st meeting | 10 | 8 | 30/60
| Clinic Dir. | 1 | 8 | 120/60
| Med. Director | 1 | 8 | 30/60
| Provider | 3 | 8 | 30/60
| Outreach staff | 3 | 8 | 30/60
| Clerical | 3 | 8 | 30/60
Clinic Staff—4 followup visits—clinic performing cervical cancer screening | 1st meeting | 10 | 4 | 30/60
| Clinic Dir. | 1 | 4 | 120/60
| Medical Dir. | 1 | 4 | 30/60
| Provider | 3 | 4 | 30/60
| Outreach staff | 3 | 4 | 30/60
| Clerical | 2 | 4 | 60/60
Clinic Staff—4 followup visits—clinic not performing cervical cancer screening | 1st meeting | 10 | 4 | 30/60
| Clinic Dir. | 1 | 4 | 60/60
| Medical Dir. | 1 | 4 | 30/60
| Provider | 2 | 4 | 30/60
| Outreach staff | 1 | 4 | 30/60
| Clerical | 1 | 4 | 60/60

Dated: December 5, 2001.
Nancy E. Cheal,
Acting Associate Director for Policy, Planning and Evaluation, Centers for Disease Control and Prevention.

[FR Doc. 01-30763 Filed 12-12-01; 8:45 am]

BILLING CODE 4163-18-P